DEPARTMENT OF TRANSPORTATION

Coast Guard

[USCG-2002-12741]

Great Lakes Pilotage Advisory Committee

AGENCY: Coast Guard, DOT.

ACTION: Notice of meeting; addition to agenda.

SUMMARY: The Coast Guard is modifying the agenda for the July 29-30, 2002, meeting of the Great Lakes Pilotage Advisory Committee (GLPAC) to add member discussion and selection of a candidate to recommend to the Secretary of Transportation for appointment as the seventh GLPAC member. The meeting will be open to the public.

DATES: GLPAC will meet on Monday, July 29, 2002, from 1:30 p.m. to 5 p.m. and on Tuesday, July 30, 2002, from 9 a.m. to 4 p.m. The meeting may close early if all business is finished.

ADDRESSES: GLPAC will meet in Deck Room B of the Maritime Institute of Technology, 5700 Hammonds Ferry Road, Linthicum Heights, Maryland. Send written material and requests to make oral presentations to Margie Hegy, Commandant (G-MW), U.S. Coast Guard Headquarters, 2100 Second Street SW., Washington, DC 20593-0001. This notice is available on the Internet at http://dms.dot.gov.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2. We had planned to have the selection of the seventh member at a closed session of the GLPAC, however we have reevaluated that decision in order to expedite the selection of this member. The revised agenda is printed below.

Agenda of Meeting

The agenda includes the following:

(1) Automatic Identification System (AIS) Technology and Training Requirements.

(2) Update on the Great Lakes Pilotage Office Relocation Study.

(3) Update on Bridge Hour Study.

(4) Discussion and Selection of 7th GLPAC Member to recommend to Secretary of Transportation for appointment.

Procedural

The meeting is open to the public. Please note that the meeting may close early if all business is finished. At the Chair's discretion, members of the public may make oral presentations during the meeting.

Information on Services for Individuals With Disabilities

For information on facilities or services for individuals with disabilities or to request special assistance at the meeting, contact the Executive Director as soon as possible.

Dated: July 23, 2002.
Paul J. Pluta,
Rear Admiral, Coast Guard, Assistant Commandant for Marine Safety, Security and Environmental Protection.

[FR Doc. 02-19139 Filed 7-24-02; 4:37 pm]

BILLING CODE 4910-15-P